DEPARTMENT OF DEFENSE

GENERAL SERVICES ADMINISTRATION

NATIONAL AERONAUTICS AND SPACE ADMINISTRATION

[OMB Control No. 9000-0113; Docket No. 2020-0053; Sequence No. 3]

Information Collection; Acquisition of Helium

AGENCY: Department of Defense (DOD), General Services Administration (GSA), and National Aeronautics and Space Administration (NASA).

ACTION: Notice and request for comments.

SUMMARY: In accordance with the Paperwork Reduction Act of 1995, and the Office of Management and Budget (OMB) regulations, DoD, GSA, and NASA invite the public to comment on a revision and renewal concerning acquisition of Helium. DoD, GSA, and NASA invite comments on: Whether the proposed collection of information is necessary for the proper performance of the functions of Federal Government acquisitions, including whether the information will have practical utility; the accuracy of the estimate of the burden of the proposed information collection; ways to enhance the quality, utility, and clarity of the information to be collected; and ways to minimize the burden of the information collection on respondents, including the use of automated collection techniques or other forms of information technology. OMB has approved this information collection for use through July 31, 2020. DoD, GSA, and NASA propose that OMB extend its approval for use for three additional years beyond the current expiration date.

DATES: DoD, GSA, and NASA will consider all comments received by July 6, 2020.

ADDRESSES: DoD, GSA, and NASA invite interested persons to submit comments on this collection through http://www.regulations.gov and follow the instructions on the site. This website provides the ability to type short comments directly into the comment field or attach a file for lengthier comments. If there are difficulties submitting comments, contact the GSA Regulatory Secretariat Division at 202-501-4755 or GSARegSec@gsa.gov.

Instructions: All items submitted must cite Information Collection 9000-0113, Acquisition of Helium. Comments received generally will be posted without change to http://www.regulations.gov, including any personal and/or business confidential information provided. To confirm receipt of your comment(s), please check www.regulations.gov, approximately two-to-three days after submission to verify posting.

FOR FURTHER INFORMATION CONTACT: Bryon Boyer, Procurement Analyst, at telephone 817-850-5580, or bryon.boyer@gsa.gov.

SUPPLEMENTARY INFORMATION:

A. OMB Control Number, Title, and Any Associated Form(s)

9000-0113, Acquisition of Helium.

B. Need and Uses

This clearance covers the information that contractors must submit to comply with the Federal Acquisition Regulation (FAR) clause 52.208-8, Required Sources for Helium and Helium Usage Data. This clause implements the requirements of the Helium Act (50 U.S.C. 167, et seq.) and 43 CFR 3195. The clause, in paragraph(b)(2), requires contractors to: Purchase major helium requirements, to be used in performance of a contract, from Federal helium suppliers to the extent supplies are available; and submit (within 10 days of such acquisition) the following information to the contracting officer: (1) The name of the supplier; (2) the amount of helium purchased; (3) the delivery date(s); and (4) the location where the helium was used.

The contracting officer will use the information to ensure compliance with contract clauses and will forward the information to the Department of the Interior, Bureau of Land Management. Without the information, Federal and contractor compliance with the applicable statutory requirements cannot be monitored effectively.

C. Annual Burden

Respondents: 26.

Total Annual Responses: 26.

Total Burden Hours: 26.

Obtaining Copies: Requesters may obtain a copy of the information collection documents from the GSA Regulatory Secretariat Division by calling 202-501-4755, or emailing GSARegSec@gsa.gov. Please cite OMB Control No. 9000-0113, Acquisition of Helium, in all requests.

Dated: April 30, 2020.
Janet Fry,
Director, Federal Acquisition Policy Division, Office of Governmentwide Acquisition Policy, Office of Acquisition Policy, Office of Governmentwide Policy.

[FR Doc. 2020-09609 Filed 5-4-20; 8:45 am]

BILLING CODE 6820-EP-P